DEPARTMENT OF THE INTERIOR

Fish and Wildlife Service

Bolsa Chica Lowlands Restoration Plan Draft Environmental Impact Statement/Report

AGENCY: Fish and Wildlife Service, Department of the Interior and the U.S. Army Corps of Engineers, Department of Defense.

ACTION: Notice of Availability of Draft Environmental Impact Statement/Report for the Bolsa Chica Lowlands Restoration Plan, Orange County, California.

SUMMARY: Pursuant to the National Environmental Policy Act of 1969, the Fish and Wildlife Service (FWS) and the U.S. Army Corps of Engineers (USACE) announce the availability of a draft environmental impact statement/report (DEIS/R) for the Bolsa Chica Lowlands Restoration Plan, Orange County, California.

DATES: A 45-day comment period will follow the Environmental Protection Agency's notice of availability of the DEIS/R on July 28, 2000. Comments must be received no later than Monday, September 11, 2000. A Public Hearing to receive comments on the DEIS/R will be held on Thursday, August 31, 2000 at 3:30 pm and again at 7 pm in the City of Huntington Beach Council Chamber, 2000 Main, Huntington Beach, California.

ADDRESSES: Public reading copies of the DEIS/R will be available for review at: Huntington Beach Central Library, 7111 Talbert, Huntington Beach, California, Garden Grove County Regional Library, 11200 Stanford, Garden Grove, California, Fountain Valley Branch Library, 17635 Los Alamos, Fountain Valley, California, Seal Beach Branch Library, 707 Electric Ave., Seal Beach, California, Fish and Wildlife Service, 2730 Loker Ave. West, Carlsbad, California, Corps of Engineers, Los Angeles District, 711 Wilshire Blvd, 14th floor, Los Angeles, California.

SUPPLEMENTARY INFORMATION: This DEIS/R has been prepared and is being circulated in accordance with the California Environmental Quality Act (CEQA) and the National Environmental Policy Act (NEPA). The Fish and Wildlife Service and the Corps of Engineers are NEPA co-lead agencies, cooperating with six other State and Federal agencies on implementation of the proposed plan. This project involves the proposal to implement a comprehensive wetland habitat restoration plan for an approximately 1300-acre area known as the Bolsa Chica Lowlands to benefit shorebirds, waterfowl, coastal seabirds, marine fishes, and a full spectrum of coastal ecosystem biota. The project site is separated from the Pacific Ocean by a State beach and highway, within the southwestern-most portions of the City of Huntington Beach, Orange County, California. Major components of this planning effort are: (1) Restoration of full tidal influence through new inlet and bridge construction and expansion of the wetland's tidal prism by dredging, (2) creation and enhancement of aquatic habitats and intertidal wetlands, (3) creation of nesting and feeding areas for Threatened and Endangered birds, (4) preservation of nontidal wetlands, and (5) phased removal of oil extraction facilities from the wetlands area.

Potentially significant environmental impacts have been identified in the areas of land use, hydrology/water quality, air quality, and biological resources. Analyzed alternatives include: three different inlet locations and no new inlet, storm water runoff around or through the wetlands, and phased implementation of tidal restoration features. The project includes measures to mitigate some potential impacts, while other mitigation will be made conditions of subsequent permits.

FOR FURTHER INFORMATION CONTACT: Jack Fancher, Coastal Program Coordinator, Fish and Wildlife Service, 2730 Loker Ave. West, Carlsbad, California 92008. Phone (760) 431-9440 or Pam Castens, Corps of Engineers, P.O. Box 532711, Los Angeles, California 90053-2325. Phone (213) 452-3851

Dated: July 19, 2000.
David G. Paullin,
Acting Manager, California-Nevada Office, Fish and Wildlife Service.

[FR Doc. 00-18858 Filed 7-27-00; 8:45 am]

BILLING CODE 4310-55-P